DEPARTMENT OF COMMERCE

Foreign-Trade Zones Board

[B-45-2016]

Foreign-Trade Zone (FTZ) 189—Kent, Ottawa and Muskegon Counties, Michigan; Notification of Proposed Production Activity; Southern Lithoplate, Inc. (Aluminum Printing Plates); Grand Rapids, Michigan

The KOM Foreign Trade Zone Authority, grantee of FTZ 189, submitted a notification of proposed production activity to the FTZ Board on behalf of Southern Lithoplate, Inc. (SLP), located in Grand Rapids, Michigan. The notification conforming to the requirements of the regulations of the FTZ Board (15 CFR 400.22) was received on July 6, 2016.

SLP already has authority for the production of aluminum offset printing plates for the printing industry within Site 10 of FTZ 189. The current request would add foreign status materials/components to the scope of authority. Pursuant to 15 CFR 400.14(b), additional FTZ authority would be limited to the specific foreign-status materials/components and specific finished products described in the submitted notification (as described below) and subsequently authorized by the FTZ Board.

Production under FTZ procedures could exempt SLP from customs duty payments on the foreign-status materials/components used in export production. On its domestic sales, SLP would be able to choose the duty rate during customs entry procedures that applies to aluminum printing plates (duty rate 3.7%) for the foreign-status materials/components noted below and in the existing scope of authority. Customs duties also could possibly be deferred or reduced on foreign-status production equipment.

The materials/components sourced from abroad include the following chemicals for photographic purposes: organic dyes; photoinitiators; photosensitizing dyes; polymers; triazine photoinitiators; pigments in solvent; acrylate polymers in solvent; novolak polymers in solvent; anion surfactants; emulsifiers in water; acrylate monomers; acrylic polymers; polyvinyl alcohols; acrylate oligomers in solvent; emulsifiers; polyvinylphenol; and, carboxymethyl cellulose (duty rate ranges from free to 6.5%). The request indicates that inputs classified under HTSUS Subheadings 3204.17, 3208.20 and 3208.90 will be admitted to the zone in privileged foreign status (19 CFR 146.41) or domestic status (19 CFR 146.43), thereby precluding inverted tariff benefits on such items.

Public comment is invited from interested parties. Submissions shall be addressed to the Board's Executive Secretary at the address below. The closing period for their receipt is August 22, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 7, 2016.
Andrew McGilvray,
Executive Secretary.

[FR Doc. 2016-16463 Filed 7-11-16; 8:45 am]

BILLING CODE 3510-DS-P